DEPARTMENT OF HEALTH AND HUMAN SERVICES

Centers for Disease Control and Prevention

[Program Announcement 04148]

International Union Against Tuberculosis and Lung Disease: Improving the Effectiveness of Tuberculosis Prevention and Control Programs in Resource-Limited Countries; Notice of Intent To Fund Single Eligibility Award

A. Purpose

The Centers for Disease Control and Prevention (CDC) announces the intent to fund fiscal year (FY) 2004 funds for a cooperative agreement program to improve the quality, efficiency and effectiveness of tuberculosis (TB) prevention and control programs in resource-limited countries. The Catalog of Federal Domestic Assistance number for this program is 93.116.

B. Eligible Applicant

Assistance will be provided only to the International Union Against Tuberculosis and Lung Disease (IUATLD). No other applications will be solicited or accepted.

The IUATLD is the only qualified international non-governmental organization (NGO) that has the technical and administrative capacity to conduct the specific set of activities requested to support CDC TB prevention and control activities outlined under this cooperative agreement because:

1. As the leading NGO combating TB globally, the IUATLD is uniquely positioned, in terms of legal authority, ability, track record, infrastructure, and credibility throughout the world to provide the critically needed support and technical expertise to MOH, as well as National TB Control Programs (NTPs) and locally based TB associations, to improve control and treatment of TB in their respective countries.

2. The IUATLD is the only international NGO with the required networks, connections, and working experience with MOH, NTPs and community based organizations in high TB burden countries that can compliment and support CDC's activities in these settings, including the provision of technical assistance to plan, design, implement, and evaluate TB program activities at the country level.

3. The IUATLD has a demonstrated track record and worldwide reputation in the planning, implementation and evaluation of specialized programs to develop and train networks of international and in-country technical experts, program managers, consultants, health-care providers and decision makers who can provide assistance to NTPs in high burden countries.

4. The IUATLD has an established framework and mechanisms to plan, develop and implement specialized training activities to support TB diagnosis, treatment and control activities in numerous countries, enabling it to immediately become engaged in the activities listed in this announcement.

5. Resulting from its history of collaboration and technical assistance, the IUATLD has an unprecedented level of access to all MOHs, NTPs, and related programs in high burden countries.

6. In collaboration with other international organizations (including CDC, the U.S. Agency for International Development, and the WHO), the IUATLD works to accomplish its mission by disseminating information related to TB program needs and services; recommending and advocating improved policies and programs; and providing consultation and guidance at the international, national, and local levels to prevent and control TB.

7. The IUATLD is uniquely qualified to conduct activities that have specific relevance to the TB response mission and objectives of CDC, and are considered essential by the Division of Tuberculosis Elimination (DTBE), to support its medium and long-term mission targets.

C. Funding

Approximately $170,000 is available in FY 2004 to fund this award. It is expected that the award will begin on or before September 1, 2004, and will be made for a 12-month budget period within a project period of up to five years. Funding estimates may change.

D. Where to Obtain Additional Information

For general comments or questions about this announcement, contact: Technical Information Management, CDC Procurement and Grants Office, 2920 Brandywine Road, Atlanta, GA 30341-4146, Telephone: 770-488-2700.

For program technical assistance, contact: Michael Qualls, Project Officer, Division of Tuberculosis Elimination, National Center for HIV, STD, and TB Prevention, Centers for Disease Control and Prevention (CDC), 1600 Clifton Road, Mailstop E-10, Atlanta, GA 30333, Telephone: 404-639-8488, E-mail: MQualls@cdc.gov.

For financial, grants management, or budget assistance, contact: Steward Nichols, Grants Management Specialist, CDC Procurement and Grants Office, 2920 Brandywine Road, Atlanta, GA 30341, Telephone: 770-488-2788, E-mail: SNichols1@cdc.gov.

Dated: June 25, 2004.
Alan Kotch,
Acting Director, Procurement and Grants Office, Centers for Disease Control and Prevention.

[FR Doc. 04-14935 Filed 6-30-04; 8:45 am]

BILLING CODE 4163-18-P